DEPARTMENT OF HOMELAND SECURITY

Coast Guard

[COTP Houston-Galveston-07-015]

Houston/Galveston Navigation Safety Advisory Committee

AGENCY: Coast Guard, DHS.

ACTION: Notice of meetings.

SUMMARY: On May 11, 2007, the Coast Guard announced that the Houston/Galveston Navigation Safety Advisory Committee (HOGANSAC) and its working groups would meet to discuss waterway improvements, aids to navigation, area projects impacting safety on the Houston Ship Channel, and various other navigation safety matters in the Galveston Bay area. This notice supplements that original meeting notice.

DATES: The HOGANSAC meeting was held on Tuesday, May 22, 2007 at 9 a.m. The meeting of the Committee's working groups was held on Tuesday, May 8, 2007 at 9 a.m. Members of the public may present written or oral statements at either meeting. Requests to make oral presentations or distribute written materials should reach the Coast Guard five (5) working days before the meeting at which the presentation will be made. Requests to have written materials distributed to each member of the committee in advance of the meeting should reach the Coast Guard at least ten (10) working days before the meeting at which the presentation will be made.

ADDRESSES: The full Committee meeting was held at the Houston Pilots Association, 8150 South Loop East, Houston, Texas 7701-1747, (713) 645-9620. The working groups meetings were held at the Foret Enterprises, Inc., 15201 East Freeway, Suite 109, Channelview, Texas 77530, (281) 452-9940. This notice is available on the Internet at http://dms.dot.gov.

FOR FURTHER INFORMATION CONTACT: Commander Jerry Torok, Executive Secretary of HOGANSAC, telephone (713) 671-5164, or Lieutenant Jon Stewart, Assistant to the Executive Secretary of HOGANSAC, telephone (713) 678-9001, e-mail jon.d.stewart@uscg.mil.

SUPPLEMENTARY INFORMATION: Notice of this meeting is given pursuant to the Federal Advisory Committee Act, 5 U.S.C. App. 2.

The meeting agendas were published as part of the original notice on May 1, 2007, which may be found in the Federal Register at 72 FR 26822. The Federal Advisory Committee Act requires Federal Register publication 15 days prior to a meeting held in accordance with the Act. The original HOGANSAC meeting announcement was published in the Federal Register 11 days prior to the meeting due to the unavailability of the committee sponsor to sign the notice. Although the meeting notice published in the Federal Register late, the Coast Guard Sector Houston/Galveston made notice to the public via the Coast Guard's Homeport notification system, publication of the meeting in trade journals, and local maritime publications. All interested parties were made aware of the meetings with sufficient time for planning purposes.

Dated: May 18, 2007.
William J. Diehl,
Captain, U.S. Coast Guard, Captain of the Port Houston-Galveston.

[FR Doc. E7-12147 Filed 6-22-07; 8:45 am]

BILLING CODE 4910-15-P